DEPARTMENT OF ENERGY

Federal Energy Regulatory Commission

Combined Notice of Filings # 1

December 24, 2008.

Take notice that the Commission received the following electric rate filings:

Docket Numbers: ER98-411-015.

Applicants: Wolverine Power Supply Cooperative, Inc.

Description: Market Power Update of Wolverine Power Supply Cooperative, Inc.

Filed Date: 12/23/2008.

Accession Number: 20081223-5088.

Comment Date: 5 p.m. Eastern Time on Monday, February 23, 2009.

Docket Numbers: ER98-4421-011; ER04-543-007; ER99-791-009; ER99-806-008; ER99-3677-010; ER01-570-011.

Applicants: Consumers Energy Company, CMS Energy Resource Management Company, Grayling Generation Station Limited Partnership, Genesee Power Station Limited Partnership, CMS Generation Michigan Power, L.L.C., Dearborn Industrial Generation, L.L.C.

Description: Consumers Energy Company et al. submits proposed revisions to their market-based rate tariffs to reflect the correct 1/6/09 projects start date of the MISO ASM market.

Filed Date: 12/19/2008.

Accession Number: 20081223-0235.

Comment Date: 5 p.m. Eastern Time on Monday, December 29, 2008.

Docket Numbers: ER01-642-014; ER01-1335-016.

Applicants: CottonWood Energy Company LP, Magnolia Energy LP.

Description: Market Power Update.

Filed Date: 12/23/2008.

Accession Number: 20081223-5117.

Comment Date: 5 p.m. Eastern Time on Monday, February 23, 2009.

Docket Numbers: ER04-1181-002; ER04-1182-002; ER04-1184-002; ER04-1186-002.

Applicants: KGen Hinds LLC, KGen Hot Spring LLC, KGen Murray I and II LLC, KGen Sandersville LLC.

Description: Market Power Update.

Filed Date: 12/23/2008.

Accession Number: 20081223-5094.

Comment Date: 5 p.m. Eastern Time on Monday, February 23, 2009.

Docket Numbers: ER05-320-006; ER97-2460-011; ER97-2463-008.

Applicants: Unitil Power Corporation, Unitil Energy Systems, Inc., Fitchburg Gas and Electric Light Company.

Description: Notice of Change in Status that Does Not Raise Competitive Issues of Unitil Energy Systems, Inc. et al.Filed Date: 12/23/2008.

Accession Number: 20081223-5073.

Comment Date: 5 p.m. Eastern Time on Tuesday, January 13, 2009.

Docket Numbers: ER05-968-004.

Applicants: Basin Creek Equity Partners, LLC.

Description: Basin Creek Equity Partners, LLC submits revisions to its FERC Electric Tariff Original Volume 1 pursuant to the requirements of Order 697 and 697-A.

Filed Date: 12/16/2008.

Accession Number: 20081218-0169.

Comment Date: 5 p.m. Eastern Time on Tuesday, January 06, 2009.

Docket Numbers: ER06-754-006.

Applicants: Auburndale Power Partners, L.P.

Description: Auburndale Power Partners, Limited Partnership submits updated market power analysis for the Southeast region in compliance with Order 697 and Order 697-A.

Filed Date: 12/19/2008.

Accession Number: 20081223-0245.

Comment Date: 5 p.m. Eastern Time on Tuesday, February 17, 2009.

Docket Numbers: ER07-46-003; OA07-7-002; OA07-58-003; ER08-332-002.

Applicants: NorthWestern Corporation.

Description: Compliance Refund Report of NorthWestern Corporation (Montana).

Filed Date: 12/22/2008.

Accession Number: 20081222-5110.

Comment Date: 5 p.m. Eastern Time on Monday, January 12, 2009.

Docket Numbers: ER08-656-004.

Applicants: Shell Energy North America (U.S.), L.P.

Description: Shell Energy North American (US), LP submits updated market power analysis in compliance with the requirements of section 35.37 of the regulations of the FERC and the regional schedule set forth in Order 697-A for Southeast region.

Filed Date: 12/19/2008.

Accession Number: 20081223-0238.

Comment Date: 5 p.m. Eastern Time on Tuesday, February 17, 2009.

Docket Numbers: ER08-1332-002; ER98-3774-006; ER08-1330-002; ER06-169-004.

Applicants: Choctaw Gas Generation, LLC, Choctaw Generation, Limited Partnership, Hot Spring Power Company, SUEZ Energy Marketing NA, Inc.

Description: GDF SUEZ Entities submits updated market power analysis supporting their continued authorization to sell power at market-based rates.

Filed Date: 12/12/2008.

Accession Number: 20081218-0002.

Comment Date: 5 p.m. Eastern Time on Tuesday, February 10, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. E8-31271 Filed 1-2-09; 8:45 am]

BILLING CODE 6717-01-P